DEPARTMENT OF AGRICULTURE

Forest Service

RIN 0596-AC12

Rangeland Management Direction Regarding Grazing Permit Administration

AGENCY: Forest Service, USDA.

ACTION: Notice.

SUMMARY: On July 19, 2005, the Forest Service published a notice in the Federal Register with request for comment on the issuance of two (2) interim directives (IDs) to Forest Service Handbook (FSH) 2209.13, chapter 10—Term Grazing Permits and chapter 20—Grazing Agreements. These IDs established procedures and responsibilities for administering term grazing permits and grazing agreements (FR 70 41370). On that same day, several other amendments to FSH 2209.13, as well as amendments to several chapters of Forest Service Manual (FSM) 2200 on Range Management were issued. On August 19, 2005, the Forest Service published a notice in the Federal Register notifying the public that the IDs had been rescinded and a revised ID had been reissued on August 16, 2005. In addition, the Forest Service announced that proposed directives containing the direction removed from the two chapters had been prepared and were available for public comment (70 FR 48663). On September 2, 2005, a third Federal Register notice was published to correct the World Wide Web/Internet address and proposed direction that included incorrect restrictions of the base property and livestock ownership requirements (70 FR 52362). The Forest Service rescinded all of the direction referred to in these three Federal Register notices on September 9, 2005, and replaced it with the direction that was in place prior to July 19, 2005.

DATES: Rangeland Management direction in effect prior to July 19, 2005, in the Forest Service Manual 2200 contents, the zero code chapter, chapters 2210, 2230, 2240, 2250, and 2270; and direction in the Forest Service Handbook contents, zero code chapter, and chapters 30, 40, 50, 60, 70, 80, and 90 were reinstated on September 9, 2005.

FOR FURTHER INFORMATION CONTACT: Ralph Giffen, Rangeland Management Staff, USDA Forest Service, (202) 205-1455.

SUPPLEMENTARY INFORMATION: The Forest Service directives consist of the Forest Service Manual (FSM) and the Forest Service Handbook (FSH), which contain the agency's policies, practices, and procedures and serves as the primary basis for the internal management and control of programs and administrative direction to Forest Service employees. The directives for all agency programs are set out on the World Wide Web/Internet at http://www.fs.fed.us/im/directives.

The FSM contains legal authorities, objectives, policies, responsibilities, instructions, and guidance needed on a continuing basis by Forest Service line officers and primary staff to plan and execute programs and activities. The FSH is the principal source of specialized guidance and instruction for carrying out the policies, objectives, and responsibilities contained in the FSM.

The Forest Service is committed to providing adequate opportunities for the public to comment on the formulation of administrative directives that are of substantial public interest or controversy, as provided in the regulations at 36 CFR part 216.

The Forest Service will make an extra effort to ensure that proposed changes in FSM 2200 and FSH 2209.13 are well communicated to the public and that the public has ample opportunity to comment on and be appropriately involved in those changes.

Therefore, the 14 amended chapters and two ID chapters issued July 19, 2005, and the two revised ID chapters issued again on August 19, 2005, are rescinded. Rangeland management direction in effect prior to the July 19, 2005 releases is reinstated in full. Comment is also no longer requested on the proposed directives. The Forest Service's objective is to clarify its rangeland management directives and explain the proposed changes while ensuring that a clear process for public comment is provided. Proposed rangeland management policy along with procedures for comment will be reevaluated prior to requesting future public comment.

Dated: September 14, 2005.
Ann Bartuska,
Acting Chief.

[FR Doc. 05-18659 Filed 9-19-05; 8:45 am]

BILLING CODE 3410-11-P